DEPARTMENT OF ENERGY

Federal Energy Regulatory Commission

[Docket No. PF18-4-000]

Mountain Valley Pipeline, LLC; Notice of Intent To Prepare an Environmental Impact Statement for the Planned MVP Southgate Project, and Request for Comments on Environmental Issues, and Notice of Public Scoping Session

The staff of the Federal Energy Regulatory Commission (FERC or Commission) will prepare an environmental impact statement (EIS) that will discuss the environmental impacts of the MVP Southgate Project (Project). The Project involves the construction and operation of facilities by Mountain Valley Pipeline, LLC (Mountain Valley), a joint venture between affiliates of EQT Corporation and NextEra Energy, Inc. in Virginia and North Carolina. The Commission will use this EIS in its decision-making process to determine whether the Project is in the public convenience and necessity.

This notice announces the opening of the scoping process the Commission will use to gather input from the public and interested agencies about issues regarding the Project. The National Environmental Policy Act (NEPA) requires the Commission to take into account the environmental impacts that could result from its action whenever it considers the issuance of a Certificate of Public Convenience and Necessity. NEPA also requires the Commission to discover concerns the public may have about proposals. This process is referred to as “scoping.” The main goal of the scoping process is to focus the analysis in the EIS on the important environmental issues. By this notice, the Commission requests public comments on the scope of the issues to address in the EIS. To ensure that your comments are timely and properly recorded, please submit your comments so that the Commission receives them in Washington, DC on or before 5 p.m. Eastern Time on September 10, 2018.

You can make a difference by submitting your specific comments or concerns about the Project. Your comments should focus on the potential environmental effects, reasonable alternatives, and measures to avoid or lessen environmental impacts. Your input will help the Commission staff determine what issues it needs to evaluate in the EIS. Commission staff will consider all filed comments during the preparation of the EIS.

If you sent comments on this Project to the Commission before the opening of this docket on May 15, 2018, or if you sent comments on this Project to the MVP mainline docket (CP16-10-000), you will need to file those comments in Docket No. PF18-4-000 to ensure they are considered as part of this proceeding.

This notice is being sent to the Commission's current environmental mailing list for this Project. State and local government representatives should notify their constituents of this planned Project and encourage them to comment on their areas of concern.

If you are a landowner receiving this notice, a Mountain Valley representative may contact you about the acquisition of an easement to construct, operate, and maintain the planned facilities. The company would seek to negotiate a mutually acceptable easement agreement. You are not required to enter into an agreement. However, if the Commission approves the Project, that approval conveys with it the right of eminent domain. Therefore, if you and the company do not reach an easement agreement, the pipeline company could initiate condemnation proceedings in court. In such instances, compensation would be determined by a judge in accordance with state law.

A fact sheet prepared by the FERC entitled “An Interstate Natural Gas Facility On My Land? What Do I Need To Know?” is available for viewing on the FERC website (www.ferc.gov). This fact sheet addresses a number of typically asked questions, including the use of eminent domain and how to participate in the Commission's proceedings.

Public Participation

For your convenience, there are four methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to Documents and Filings. Using eComment is an easy method for submitting brief, text-only comments on a project;

(2) You can file your comments electronically by using the eFiling feature, which is located on the Commission's website (www.ferc.gov) under the link to Documents and Filings. With eFiling, you can provide comments in a variety of formats by attaching them as a file with your submission. New eFiling users must first create an account by clicking on “eRegister.” You will be asked to select the type of filing you are making; a comment on a particular project is considered a “Comment on a Filing”; or

(3) You can file a paper copy of your comments by mailing them to the following address. Be sure to reference the Project docket number (PF18-4-000) with your submission: Kimberly D. Bose, Secretary, Federal Energy Regulatory Commission, 888 First Street NE, Room 1A, Washington, DC 20426.

(4) In lieu of sending written comments, the Commission invites you to attend one of the public scoping sessions its staff will conduct in the Project area, scheduled as follows:

FERC Public Scoping Meetings—MVP Southgate Project
Date and time | Location
Monday, August 20, 2018; 5-8 p.m | Reidsville Event Center, 223 S. Scales Street, Reidsville, NC 27320.
Tuesday, August 21, 2018; 5-8 p.m | Olde Dominion Agricultural Complex, 19783 US-29, Chatham, VA 24531.
Thursday, August 23, 2018; 5-8 p.m | Vailtree Event and Conference Center, 1567 Bakatsias Lane, Haw River, NC 27258.

The primary goal of these scoping sessions is to have you identify the specific environmental issues and concerns that should be considered in the EIS. Individual verbal comments will be taken on a one-on-one basis with a court reporter. This format is designed to receive the maximum amount of verbal comments, in a convenient way during the timeframe allotted.

Each scoping session is scheduled from 5 p.m. to 8 p.m. EDT. There will not be a formal presentation by Commission staff when the session opens. If you wish to speak, the Commission staff will hand out numbers in the order of your arrival. Comments will be taken until 8 p.m. However, if no additional numbers have been handed out and all individuals who wish to provide comments have had an opportunity to do so, staff may conclude the session at 7:30 p.m. Please see appendix 1 for additional information on the session format and conduct.¹

¹ The appendices referenced in this notice will not appear in the Federal Register. Copies of the appendices were sent to all those receiving this notice in the mail and are available at www.ferc.gov using the link called “eLibrary” or from the Commission's Public Reference Room, 888 First Street NE, Washington, DC 20426, or call (202) 502-8371. For instructions on connecting to eLibrary, refer to the last page of this notice.

Your scoping comments will be recorded by a court reporter (with FERC staff or representative present) and become part of the public record for this proceeding. Transcripts will be publicly available on FERC's eLibrary system (see below for instructions on using eLibrary). If a significant number of people are interested in providing verbal comments in the one-on-one settings, a time limit of three (3) minutes may be implemented for each commentor.

It is important to note that the Commission provides equal consideration to all comments received, whether filed in written form or provided verbally at a scoping session. Although there will not be a formal presentation, Commission staff will be available throughout the scoping session to answer your questions about the environmental review process. Representatives from Mountain Valley will also be present to answer questions you may have about their Project.

Please note this is not your only public input opportunity; please refer to the review process flow chart in appendix 2.¹

Summary of the Planned Project

The Project would involve the construction and operation of about 72 miles of 24-inch-diameter natural gas transmission pipeline in Pittsylvania County, Virginia and Rockingham and Alamance Counties, North Carolina. The Project would interconnect with and receive gas from the Mountain Valley Pipeline near Chatham, Virginia, and the East Tennessee Natural Gas mainline near Eden, North Carolina. The pipeline would extend about 72 miles to its planned terminus at an interconnect near Graham, North Carolina. The pipeline would be designed to deliver at least 300 million cubic feet of natural gas per day. Additional facilities would include new compressor stations in Pittsylvania County, Virginia and Rockingham County, North Carolina; four new meter stations; eight main line valves, and four pig ² launchers and receivers.

² A “pig” is an internal tool that the pipeline company inserts into and pushes through the pipeline for cleaning, inspections, or other purposes.

The general location of the Project facilities is shown in appendix 3. Additional Project location information, including an interactive map, is available on the Mountain Valley's Project website: www.mvpsouthgate.com.

Project Alternatives

Mountain Valley is evaluating the following alternatives and route deviations listed below. Illustrations of these alternatives are provided in the figures in appendix 3.

Sandy Cross Road Alternative

To address concerns regarding the planned route's proximity to residences in Alamance County, North Carolina, the Sandy Cross Road Alternative would deviate from the planned route near milepost (MP) 65.5 and extend northeast and then south for about 2.0 miles before rejoining the planned route at MP 67.0.

Alamance Eastern Alternative

To address concerns regarding the planned route's proximity to residences in Alamance County, North Carolina, the Alamance Eastern Alternative would deviate from the planned route near MP 65.6 and extend east and then southwest for about 9.6 miles before rejoining the planned route at MP 70.4.

Alamance Southern Alternative

To address concerns regarding the planned route's proximity to residences in Alamance County, North Carolina, the Alamance Southern Alternative would deviate from the planned route near MP 71.4 and extend southeast, and then southwest for about 2.3 miles before rejoining the planned route at MP 72.5.

Duke Powerline Alternative

In order to increase the planned route's collocation with existing rights-of-way in Alamance County, North Carolina, the Duke Powerline Alternative would deviate from the planned route near MP 58.2 and extend south and then east for about 4.4 miles before rejoining the planned route at MP 62.0. This alternative route is collocated with the Duke Energy transmission line and other rights-of-way for about 3.8 miles.

Land Requirements for Construction

Construction of the planned facilities would disturb about 1,348 acres of land. Following construction, Mountain Valley would maintain about 449 acres for permanent operation of the Project's facilities, not including permanent access roads; the remaining acreage would be restored and revert to former uses. About 47 percent of the planned pipeline route parallels existing pipeline, utility, and road rights-of-way.

The EIS Process

The EIS will discuss impacts that could occur as a result of the construction and operation of the planned Project under these general headings:

1. Geology and soils;

2. land use;

3. water resources, fisheries, and wetlands;

4. cultural resources;

5. vegetation and wildlife;

6. air quality and noise;

7. endangered and threatened species;

8. public safety;

9. socioeconomics; and

10. cumulative impacts.

Commission staff will also evaluate possible alternatives to the planned Project or portions of the Project, and make recommendations on how to lessen or avoid impacts on the various resource areas.

Although no formal application has been filed, Commission staff have already initiated a NEPA review under the Commission's pre-filing process. The purpose of the pre-filing process is to encourage early involvement of interested stakeholders and to identify and resolve issues before the Commission receives an application. As part of the pre-filing review, Commission staff will contact federal and state agencies to discuss their involvement in the scoping process and the preparation of the EIS.

The EIS will present Commission staffs' independent analysis of the issues. The Commission will publish and distribute the draft EIS for public comment. After the comment period, staff will consider all timely comments and revise the document, as necessary, before issuing a final EIS. To ensure Commission staff have the opportunity to consider and address your comments, please carefully follow the instructions in the Public Participation section, beginning on page 2.

With this notice, the Commission is asking agencies with jurisdiction by law and/or special expertise with respect to the environmental issues related to this Project to formally cooperate in the preparation of the EIS.³ Agencies that would like to request cooperating agency status should follow the instructions for filing comments provided under the Public Participation section of this notice. Currently, the U.S. Army Corps of Engineers has expressed their intention to participate as a cooperating agency in the preparation of the EIS.

³ The Council on Environmental Quality regulations addressing cooperating agency responsibilities are at Title 40, Code of Federal Regulations, part 1501.6.

Consultation Under Section 106 of the National Historic Preservation Act

In accordance with the Advisory Council on Historic Preservation's implementing regulations for section 106 of the National Historic Preservation Act, the Commission is using this notice to initiate consultation with the applicable State Historic Preservation Office(s) (SHPO), and to solicit their views and those of other government agencies, interested Indian tribes, and the public on the Project's potential effects on historic properties.⁴ Commission staff will define the Project-specific Area of Potential Effects (APE) in consultation with the SHPO(s) as the Project develops. On natural gas facility projects, the APE at a minimum encompasses all areas subject to ground disturbance (examples include construction right-of-way, contractor/pipe storage yards, compressor stations, and access roads). The EIS for this Project will document our findings on the impacts on historic properties and summarize the status of consultations under section 106.

⁴ The Advisory Council on Historic Preservation regulations are at Title 36, Code of Federal Regulations, part 800. Those regulations define historic properties as any prehistoric or historic district, site, building, structure, or object included in or eligible for inclusion in the National Register of Historic Places.

Currently Identified Environmental Issues

Commission staff have already identified several issues that deserve attention based on a preliminary review of the planned facilities and the environmental information provided by Mountain Valley. This preliminary list of issues may change based on your comments and our analysis.

1. Domestic water sources, wells, springs, and waterbodies;

2. federally-listed threatened and endangered species, including mussels, fish, and bats;

3. residential developments and property values;

4. public safety;

5. environmental justice;

6. operational noise from planned compressor stations; and

7. alternatives and their potential impacts on a range of resources.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for Project purposes, or who own homes within certain distances of aboveground facilities, and anyone who submits comments on the Project. Commission staff will update the environmental mailing list as the analysis proceeds to ensure that information related to this environmental review is sent to all individuals, organizations, and government entities interested in and/or potentially affected by the planned Project.

Copies of the completed draft EIS will be sent to the environmental mailing list for public review and comment. If you would prefer to receive a paper copy of the document instead of a CD version or would like to remove your name from the mailing list, please return the attached “Mailing List Update Form” (appendix 4).

Becoming an Intervenor

Once Mountain Valley files its application with the Commission, you may want to become an “intervenor” which is an official party to the Commission's proceeding. Only intervenors have the right to seek rehearing of the Commission's decision and be heard by the courts if they choose to appeal the Commission's final ruling. An intervenor formally participates in the proceeding by filing a request to intervene pursuant to Rule 214 of the Commission's Rules of Practice and Procedures (Title 18, Code of Federal Regulations, part 385.214). Motions to intervene are more fully described at http://www.ferc.gov/resources/guides/how-to/intervene.asp. Please note that the Commission will not accept requests for intervenor status at this time. You must wait until the Commission receives a formal application for the Project, after which the Commission will issue a public notice that establishes an intervention deadline.

Additional Information

Additional information about the Project is available from the Commission's Office of External Affairs, at (866) 208-FERC, or on the FERC website (www.ferc.gov) using the eLibrary link. Click on the eLibrary link, click on “General Search” and enter the docket number in the “Docket Number” field, excluding the last three digits (i.e., PF18-4). Be sure you have selected an appropriate date range. For assistance, please contact FERC Online Support at FercOnlineSupport@ferc.gov or toll free at (866) 208-3676, or for TTY, contact (202) 502-8659. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public sessions or site visits will be posted on the Commission's calendar located at www.ferc.gov/EventCalendar/EventsList.aspx along with other related information.

Dated: August 9, 2018.
Nathaniel J. Davis, Sr.,
Deputy Secretary.

[FR Doc. 2018-17545 Filed 8-14-18; 8:45 am]

BILLING CODE 6717-01-P